DEPARTMENT OF ENERGY

Federal Energy Regulatory Commission

Notice of License Surrender, and Soliciting Comments, Motions To Intervene, and Protests

July 3, 2000.

Take notice that the following hydroelectric application has been filed with the Federal Energy Regulatory Commission and is available for public inspection:

a. Type of Application: Surrender of License.

b. Project No: 2954-020.

c. Date Filed: May 31, 2000.

d. Applicant: City of Santa Barbara, California.

e. Name of Project: Gibraltar Hydroelectric Project.

f. Location: At Lauro Reservoir, located at the north end of San Roque Road, Santa Barbara, California. The project utilizes federal lands managed by the U.S. Department of the Interior, Bureau of Reclamation.

g. Filed Pursuant to: Federal Power Act, 16 U.S.C. 791(a)-825(r).

h. Applicant Contact: David H. Johnson, Public Works Director, City of Santa Barbara, 630 Garden Street, P.O. Box 1990, Santa Barbara, CA 93102, (805) 546-5387.

i. FERC Contact: Any questions concerning this notice should be addressed to Paul Friedman at (202) 208-1108; e-mail: paul.friedman@ferc.fed.us.

j. Deadline for filing comments, motions, or protests: August 7, 2000.

All documents (original and eight copies) should be filed with: David P. Boergers, Secretary, Federal Energy Commission, 888 First Street, NE, Washington, D.C. 20426. Please include the Project No. (2954-020) on any comments or motions filed.

k. Description of Project: The project consists of: (1) A 600-foot-long, 180-foot-high, concrete arch dam; (2) a reservoir with a surface area of 8,500-acre-feet; (3) the 19,650-foot-long Mission Tunnel; (4) a 6,200-foot-long penstock; (5) a powerhouse containing a single generating unit with an installed capacity of 750kW; and (6) appurtenant facilities. The licensee requests surrender of the license, stating that the project is no longer economically viable.

l. Locations of this application: A copy of the application is available for inspection and reproduction at the Commission's Public Reference Room located at 888 First Street, NE, Washington, DC 20426, or by calling (202) 208-1371. The filing may be viewed on http://www/ferc.fed.us/online/rims/htm (call (202) 208-2222 for assistance). A copy is also available for inspection and reproduction at the address in item h. above.

m. Individuals desiring to be included on the Commission's mailing list should so indicate by writing to the Secretary of the Commission.

Comments, Protests, or Motions to Intervene—Anyone may submit comments, a protest, or a motion to intervene in accordance with the requirements of Rules of Practice and Procedure, 18 CFR 385.210, .211, .214. In determining the appropriate action to take, the Commission will consider all protests or other comments filed, but only those who file a motion to intervene in accordance with the Commission's Rules may become a party to the proceeding. Any comments, protests, or motions to intervene must be received on or before the specified comment date for the particular application.

Filing and Service of Responsive Documents—Any filings must bear in all capital letters that title “COMMENTS”, “RECOMMENDATIONS FOR TERMS AND CONDITIONS”, “PROTEST”, OR “MOTION TO INTERVENE”, as applicable, and the Project Number of the particular application to which the filing refers. Any of the above-named documents must be filed by providing the original and the number of copies provided by the Commission's regulations to: The Secretary, Federal Energy Regulatory Commission, 888 First Street, NE., Washington, DC 20426. A copy of any motion to intervene must also be served upon each representative of the Applicant specified in the particular application.

Agency Comments—Federal, state, and local agencies are invited to file comments on the described application. A copy of the application may be obtained by agencies directly from the Applicant. If an agency does not file comments within the time specified for filing comments, it will be presumed to have no comments. One copy of an agency's comments must also be sent to the applicant's representatives.

David P. Boergers,
Secretary.

[FR Doc. 00-17327 Filed 7-7-00; 8:45 am]

BILLING CODE 6717-01-M